DEPARTMENT OF HOMELAND SECURITY

Coast Guard

[USCG 2006-25080]

Medical and Physical Evaluation Guidelines for Merchant Mariner Credentials

ACTION: Notice of availability; request for comments.

SUMMARY: The Coast Guard announces the availability of, and seeks public comment on, a draft Navigation and Vessel Inspection Circular (NVIC) to replace the existing NVIC 2-98, “Physical Evaluation Guidelines for Merchant Mariner's Documents and Licenses.” The new proposed NVIC is entitled “Medical and Physical Evaluation Guidelines for Merchant Mariner Credentials.” It will be officially numbered if and when it becomes effective. The contents of this NVIC were developed from recommendations and input provided by the Merchant Marine Personnel Advisory Committee (MERPAC) and experienced maritime community medical practitioners. A copy of the proposed NVIC has been posted to the public docket for this notice, and it is available as described under ADDRESSES.

DATES: Comments and related material must reach the Docket Management Facility on or before November 27, 2006.

ADDRESSES: The proposed NVIC is available on the Internet at http://dms.dot.gov, under this docket number [USCG 2006-25080]. It is also available from Mr. Mark Gould, Maritime Personnel Qualifications Division, Office of Operating and Environmental Standards, Commandant (G-PSO-1), U.S. Coast Guard Headquarters, telephone 202-372-1409, or e-mail address: Mark.C.Gould@uscg.mil.

The Coast Guard encourages you to submit comments. The most helpful comments will include the specific section of the proposed NVIC to which each comment applies, as well as the reason for each comment. Comments should be identified by USCG docket number USCG-2006-25080. Please include your name and address with your comments and submit using ONE of the following methods:

(1) Web site: http://dms.dot.gov.

(2) Mail: Docket Management Facility, U.S. Department of Transportation, 400 Seventh Street, SW., Room PL-401, Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

(5) Federal eRulemaking Portal: http://www.regulations.gov. Follow the instructions on the Web site.

The Docket Management Facility maintains the public docket for this notice. Comments and related material received from the public, as well as documents mentioned in this notice (including the proposed NVIC), will become part of this docket and will be available for inspection or copying at room PL-401 on the Plaza level of the Nassif Building, 400 Seventh Street, SW., Washington, DC 20590-0001, between 9 a.m. and 5 p.m., Monday through Friday, except Federal holidays. Copies of the docket may also be viewed on the internet at: http://dms.dot.gov and http://www.regulations.gov.

If you mail or deliver your comments and material, they must be on 8½-by-11-inch paper, and the quality of the copy should be clear enough for copying and scanning. If you mail your comments and material and would like to know whether the Docket Management Facility received them, please enclose a stamped, self-addressed postcard or envelope. The Coast Guard will consider all comments and material received during the 60-day comment period.

FOR FURTHER INFORMATION CONTACT: For questions on this notice or on the proposed NVIC, e-mail or call Mr. Gould where indicated under ADDRESSES. For questions on viewing or submitting material to the docket, call Ms. Renee V. Wright, Program Manager, Docket Management System, U.S. Department of Transportation, Room Plaza 401, 400 Seventh Street, SW., Washington, DC 20590-0001; telephone (202) 493-0402.

SUPPLEMENTARY INFORMATION:

What action is the Coast Guard taking?

The proposed NVIC contains revised guidelines for evaluating the physical and medical conditions of applicants for merchant mariner's documents (MMD), licenses, certificates of registry and STCW endorsements, collectively referred to as “credential(s).” The purpose of the proposed NVIC is to replace the existing NVIC 2-98. It also provides guidance for evaluating the physical and medical conditions of applicants for merchant mariner credentials (MMCs), if and when the Coast Guard begins issuing MMCs as proposed in 71 FR 29462, “Consolidation of Merchant Mariner Qualification Credentials.”

Why is the Coast Guard taking this action?

The International Convention on Standards of Training, Certification and Watchkeeping for Seafarers, 1978, as amended (STCW) requires each party to establish standards of medical fitness for seafarers. Title 46 United States Code, Subtitle II, Part E, and Title 46 Code of Federal Regulations (CFR) subpart B require that mariners be physically able to perform their duties, using terms such as “general physical condition,” “good health” and “of sound health.” Title 46 CFR parts 401 and 402 contain special requirements for registration as a Great Lakes Pilot, including the requirement to “pass a physical examination given by a licensed medical doctor.” None of these references contain specific standards, with the exception of visual acuity and color vision, for determining if mariners are physically and medically qualified.

The lack of specificity in the above statutes and regulations has led to confusion and unnecessary delays in processing credential applications as well as inconsistent evaluations by medical practitioners conducting examinations of credential applicants. Moreover, it has caused confusion on the part of Coast Guard personnel charged with determining whether a credential should be issued. The proposed NVIC provides the specificity that the above statutes and regulations lack. It details the specific medical and physical conditions that are potentially disqualifying, and the data recommended for evaluation of each of these conditions. This is expected to reduce the inconsistency and subjectivity of the medical evaluation process and eliminate the guesswork that mariners may currently encounter as to what specific physical and medical information is needed to process their applications.

In addition, there are public safety risks associated with some medical and physical conditions, particularly when these conditions may result in the sudden incapacitation of mariners on vessels. These conditions can be the root cause of a maritime mishap. The NTSB, in their report on the 2003 collision of the Staten Island ferry ANDREW J. BARBERI, determined that the assistant captain's unexplained incapacitation was a causal factor in the casualty, resulting in the deaths of 10 passengers and injuries to 70 others. The report recommended that the Coast Guard review several issues in the merchant mariner physical and medical evaluation process. The proposed NVIC is a critical component of the Coast Guard's response to the NTSB report.

Does this change current practices?

The information contained in the proposed NVIC does not change current Coast Guard practices with respect to the physical and medical evaluation process. Rather, it puts the current practices into writing, making them transparent for all to see and promoting their consistent application. As such, it is not anticipated that the proposed NVIC will result in significantly higher rates of disqualification for mariners, nor in increased processing time for credential applications with physical and/or medical issues. To the contrary, as explained above, the Coast Guard expects the process to be fairer and less subjective, and we anticipate a reduction in application processing time, because all parties will know precisely what information is needed at the outset of the application process.

How does the proposed NVIC differ from the current NVIC 2-98?

The current NVIC 2-98 defines approximately forty-seven medical conditions as potentially disqualifying, but provides specific guidance for only two of those conditions. The proposed NVIC has a more extensive list of medical conditions and guidance on how to address the Coast Guard's safety concerns with respect to those conditions.

What are the contents of the proposed NVIC?

The guidance in the proposed NVIC has been developed by Coast Guard medical officers in consultation with MERPAC and experienced maritime community medical practitioners. The proposed NVIC reflects a synthesis of their recommendations, regulatory requirements, and the recommendations of leaders of other Federal transportation modes as to appropriate medical and physical standards.

Enclosure (1) of the proposed NVIC provides guidance on medical certification standards. It lists the standards that apply to applicants for each of the various types of credentials. Enclosure (2) provides guidance for determining if mariners are physically able to perform their duties. Enclosure (3) contains a list of potentially disqualifying medical conditions, medications and supplemental medical data to be submitted for medical review. Enclosure (4) contains guidance for evaluating vision and hearing. Enclosure (5) describes the medical review process.

Once the Coast Guard has considered all comments and related material, we will publish a final, effective version of the NVIC for use as guidelines by the general public, mariners, and specifically, those professionals assessing the physical and medical condition of merchant mariners. The final, effective version of the NVIC will be posted on the electronic docket for this rulemaking as well as the NMC Web site at http://www.uscg.mil/hq/g-m/nmc/web/index.htm.

Dated: September 21, 2006.
J.G. Lantz,
Director of National and International Standards, Assistant Commandant for Prevention.

[FR Doc. 06-8305 Filed 9-22-06; 4:33 pm]

BILLING CODE 4910-15-P